DEPARTMENT OF AGRICULTURE

Natural Resources Conservation Service

LA-05 Floating Marsh Creation Demonstration Project, Terrebonne Parish, LA

AGENCY: Natural Resources Conservation Service, Agriculture.

ACTION: Notice of finding of no significant impact.

SUMMARY: Pursuant to section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for the Floating Marsh Creation Demonstration Project (LA-05), Terrebonne Parish, Louisiana.

FOR FURTHER INFORMATION, CONTACT: Donald W. Gohmert, State Conservationist, Natural Resources Conservation Service, 3737 Government Street, Alexandria, Louisiana 71302; telephone (318) 473-7751.

SUPPLEMENTARY INFORMATION: The environmental assessment of the federally assisted action indicates that the demonstration project will not cause significant local, regional, or national impacts on the environment. As a result of these findings, Donald W. Gohmert, State Conservationist, has determined that preparation and review of an environmental impact statement is not needed for this project.

The demonstration project will develop and test unique, previously untested technologies for creating floating marsh in order to restore significantly deteriorated wetland areas that historically supported thick-mat maidencane (Panicum hemitomon) floating marsh, and other open freshwater areas. The development of appropriate technology through this plan has potential use throughout fresh and intermediate zones of coastal Louisiana, particularly in Terrebonne Basin where traditional techniques for re-establishing attached marshes are not applicable or feasible.

The recommended project plan consists of two phases: The first phase is the development and testing, in controlled settings, of a variety of artificial floating marsh system designs along with testing and optimization of plant growth and establishment. The second phase consists of field testing advanced designs of artificial floating marsh systems in selected marsh settings.

The Notice of Finding of No Significant Impact (FONSI) has been forwarded to the Environmental Protection Agency and to various federal, state, and local agencies and interested parties. A limited number of copies of the FONSI are available to fill single copy requests at the above address. Basic data collected during the environmental assessment are on file and may be reviewed by contacting Donald W. Gohmert.

No administrative action on implementation of the proposal will be taken until 30 days after the date of this publication in the Federal Register.

Donald W. Gohmert,
State Conservationist.

[FR Doc. E5-8005 Filed 12-28-05; 8:45 am]

BILLING CODE 3410-16-P